DEPARTMENT OF TRANSPORTATION

Federal Railroad Administration

Petition for Waiver of Compliance

In accordance with Title 49 Code of Federal Regulations (CFR), Parts 211.9 and 211.41 notice is hereby given that the Federal Railroad Administration (FRA) has received a request to expand an existing waiver of compliance from certain requirements of Federal railroad safety regulations. The individual petition is described below, including the parties seeking the extension, the nature of the extension being requested and the petitioner's arguments in favor of relief.

Burlington Northern and Santa Fe Railway Company

[Docket Number FRA-2003-15432]

The Burlington Northern and Santa Fe Railway Company (BNSF) seeks permission to expand the current Electronic Train Management System (ETMS) waiver granted on June 23, 2004, into another area of their rail network. The extension of this pilot will allow BNSF to further demonstrate the objectives of ETMS on different track configurations and operational scenarios. This extension will also allow BNSF to demonstrate the ETMS technology with denser traffic patterns and give BNSF the potential to test interoperability with other railroads.

The ETMS pilot project on the Beardstown subdivision is currently in the third phase of the FRA waiver that was granted on June 23, 2004. To date, BNSF has operated nearly 1700 ETMS-activated trains over this pilot test area. BNSF has conducted over five hundred tests in cooperation with the FRA Office of Safety that have successfully demonstrated the objectives that are feasible in the first pilot test area. BNSF is prepared to continue the testing and demonstration of the ETMS technology in other areas of their rail network that will allow them to further demonstrate the safety and operational benefits that the rail industry can derive from this technology.

The ETMS expansion will be tested and demonstrated on the BNSF's Fort Worth subdivision between Fort Worth, Texas, milepost 346.67 and Gainesville, Texas, milepost 411.3. In addition, the system will be tested and demonstrated on the Red Rock subdivision between Gainesville, Texas, milepost 411.3X and Arkansas City, Kansas, milepost 264.11. The combined distance of the test territory is 329 miles. The present method of operation on the BNSF is Centralized Traffic Control. The total trains are approximately 25 per day, 21 BNSF trains, 2 Amtrak trains, and 2 Union Pacific Railroad trains.

BNSF is currently developing an installation, test, and implementation plan for this second pilot test area. BNSF's present implementation guidelines would follow the same methodologies as previously used in the Beardstown test area with regards to personnel training and the testing of the test area's unique components such as grade, track configuration, and track database. In addition, BNSF's plan for this area would include a phased methodology as was done in the Beardstown test area where Phase 1 included no enforcement with ETMS active, Phase 2 included enforcement with ETMS active, and Phase 3 is a continuance of Phase 2 with some relief from detail reporting. This approach has proven to be productive and comprehensive.

The expansion would begin with wayside and locomotive equipment installation in the beginning of 2006. Upon completion of the wayside installation, the track database verification and locomotive testing would commence. Finally, the phased revenue demonstration would begin upon the successful completion of the verification and validation testing.

Interested parties are invited to participate in these proceedings by submitting written views, data or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2003-15432) and must be submitted to the Docket Clerk, DOT Central Docket Management Facility, Room PL-401, Washington, DC, 20590-0001. Communications received within 30 days of the date of this notice will be considered by FRA before final action is taken. Comments received after that date will be considered as far as practicable. All written communications concerning these proceedings are available for examination during regular business hours (9 a.m.-5 p.m.). At the above facility. All documents in the public docket are also available for inspection and copying on the Internet at the docket facility's Web site at ­ http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on December 15, 2005.
Grady C. Cothen, Jr.,
Deputy Associate Administrator for Safety Standards and Program Development.

[FR Doc. E5-7565 Filed 12-19-05; 8:45 am]

BILLING CODE 4910-06-P